NATIONAL CREDIT UNION ADMINISTRATION

Sunshine Act; Notice of Agency Meetings

TIME AND DATE: 4:00 p.m., Wednesday, September 27, 2017.

PLACE: Board Room, 7th Floor, Room 7047, 1775 Duke Street, Alexandria, VA 22314-3428.

STATUS: Closed.

MATTERS TO BE CONSIDERED:

1. Supervisory Action. Closed pursuant to Exemptions (8), (9)(i)(B), and (9)(ii).

2. Supervisory Action. Closed pursuant to Exemptions (8), (9)(i)(B), and (9)(ii).

FOR FURTHER INFORMATION CONTACT: Gerard Poliquin, Secretary of the Board, Telephone: 703-518-6304

Gerard Poliquin,
Secretary of the Board.

[FR Doc. 2017-20418 Filed 9-20-17; 4:15 pm]

BILLING CODE 7535-01-P